DEPARTMENT OF THE TREASURY

Office of Thrift Supervision

[AC-16: OTS Nos. 05763 and H-4444]

First Advantage Bancorp, Inc., Clarksville, Tennessee; Approval of Conversion Application

Notice is hereby given that on October 10, 2007, the Office of Thrift Supervision approved the application of First Federal Savings Bank, Clarksville, Tennessee, to convert to the stock form of organization. Copies of the application are available for inspection by appointment (phone number: 202-906-5922 or e-mail: Public.Info@OTS.Treas.gov) at the Public Reading Room, 1700 G Street, NW., Washington, DC 20552, and the OTS Southeast Regional Office, 1475 Peachtree Street, NE., Atlanta, Georgia 30309.

Dated: October 11, 2007.
By the Office of Thrift Supervision.
Sandra E. Evans,
Legal Information Assistant.

[FR Doc. 07-5117 Filed 10-16-07; 8:45 am]

BILLING CODE 6720-01-M